DEPARTMENT OF TRANSPORTATION

Federal Highway Administration

Environmental Impact Statement: Addison and Rutland Counties, VT

AGENCY: Federal Highway Administration (FHWA), DOT.

ACTION: Notice of intent.

SUMMARY: The FHWA is issuing this notice to advise the public that an environmental impact statement will be prepared for proposed improvements to freight transportation to and from Middlebury, Vermont.

FOR FURTHER INFORMATION CONTACT: Rob Sikora, Environmental Program Manager, Federal Highway Administration, P.O. Box 568, Montpelier, Vermont 05601. Telephone: 802-828-4573.

SUPPLEMENTARY INFORMATION: The FHWA, in cooperation with the Vermont Agency of Transportation (VTrans), will prepare an Environmental Impact Statement (EIS) for a proposal to improve the transportation of large amounts of industrial materials to and from Middlebury along the U.S. Route 7 corridor.

Improvements in the corridor are considered necessary to provide for existing and projected movement of freight to and from Middlebury via U.S. Route 7. Alternatives under consideration include (1) taking no action; (2) improving existing U.S. Route 7; and (3) adding a new rail line with associated connector tracks and access roads. Incorporated into and studied with the various build alternatives will be design variations of grade and alignment.

Letters describing the proposed action and soliciting comments will be sent to appropriate Federal, State, and local agencies, and to private organizations and citizens who have previously expressed or are known to have an interest in this proposal. A series of public meetings will be held in Middlebury and other communities along Route 7. In addition, a public hearing will be held. Public notice will be given of the time and place of the meetings and hearing. The draft EIS will be available for public and agency review and comment prior to the public hearing. No formal scoping meeting is planned at this time.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)
Issued on: January 11, 2005.
Kenneth R. Sikora, Jr.,
Environmental Program Manager, Montpelier, Vermont.

[FR Doc. 05-899 Filed 1-14-05; 8:45 am]

BILLING CODE 4910-22-M